DEPARTMENT OF ENERGY

Federal Energy Regulatory Commission

[Docket Nos. ER10-192-002, ER10-192-003, ER10-192-004]

Public Service Company of Colorado; Notice of Filing

July 19, 2010.

Take notice that on June 18, 2010, in Docket No. ER10-192-004, Public Service Company of Colorado (PSCo) filed an Offer of Settlement and Settlement Agreement resolving all issues between PSCo and Holy Cross Electric Association, Inc.; Grand Valley Rural Power Lines, Inc.; and Yampa Valley Electric Association, Inc., regarding PSCo's October 30, 2009 filing in Docket No. ER10-192-000 and PSCo's November 6, 2009 filing in Docket No. ER10-192-001 (collectively, PSCo Rate Application).

On July 13, 2010, in Docket No. ER10-192-002, PSCo filed an Offer of Settlement and Settlement Agreement resolving all issues between PSCo and Black Hills/Colorado Electric Utility Company regarding the PSCo Rate Application. On July 14, 2010, in Docket No. ER10-192-003, PSCo filed an Offer of Settlement and Settlement Agreement resolving all issues between PSCo and the City of Burlington, Colorado, and the Town of Center, Colorado, regarding the PSCo Rate Application.

Any person desiring to intervene or to protest these filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible Online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. e.t on Wednesday, August 4, 2010.

Kimberly D. Bose,
Secretary.

[FR Doc. 2010-18278 Filed 7-26-10; 8:45 am]

BILLING CODE 6717-01-P